ENVIRONMENTAL PROTECTION AGENCY

[ER-FRL-9025-8]

Environmental Impact Statements; Notice of Availability

Responsible Agency: Office of Federal Activities, General Information (202) 564-7146 or http://www2.epa.gov/nepa.

Weekly receipt of Environmental Impact Statements (EISs)

Filed 02/22/2016 Through 02/26/2016,

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20160047, Final Supplement, NNSA, TN, Production of Tritium in a Commercial Light Water Reactor, Review Period Ends: 04/04/2016, Contact: Curtis Chambellan 505-845-5073.

EIS No. 20160048, Final, USAF, AK, United States Air Force F-35A Operational Beddown-Pacific, Review Period Ends: 04/04/2016, Contact: Toni Ristau 907-377-2116.

EIS No. 20160049, Final, DOE, NM, Disposal of Greater-than-Class-C (GTCC) Low-Level Radioactive Waste and GTCC-Like Waste, Review Period Ends: 04/04/2016, Contact: Theresa J. Kliczewski 202-586-3301.

EIS No. 20160050, Final, USFS, CA, Jess Project, Review Period Ends: 04/04/2016, Contact: Danika Carlson 530-468-1225.

EIS No. 20160051, Draft, DOC, PRO, Programmatic—Nationwide Public Safety Broadband Network for the Non-Contiguous United States, Comment Period Ends: 05/03/2016, Contact: Amanda Pereira 571-665-6141.

EIS No. 20160052, Final, USACE, CA, Cordova Hills, Review Period Ends: 04/04/2016, Contact: Lisa M. Gibson 916-557-5288.

EIS No. 20160053, Final Supplement, TVA, TN, Adoption—Production of Tritium in a Commercial Light Water Reactor, Contact: Charles P. Nicholson 865-632-3582. The Tennessee Valley Authority is adopting the U.S. Department of Energy's National Nuclear Security Administration's FSEIS #20160047, filed with EPA on 02/24/2016. TVA is a cooperating agency for the project. Therefore, recirculation of the document is not necessary under Section 1306.3(c) of the CEQ Regulations.

Amended Notices

EIS No. 20150343, Draft, NPS, AZ, Backcountry Management Plan Grand Canyon National Park, Comment Period Ends: 04/04/2016, Contact: Rachel Bennett 928-638-7326. Revision to FR Notice Published 12/11/2015; Extending Comment Period from 03/04/2016 to 04/04/2016.

EIS No. 20160028, Final, FHWA, WI, I-94 East-West Corridor (70th St-16th St), Review Period Ends: 04/15/2016, Contact: Michael Davies 608-829-7500. Revision to FR Notice Published 02/12/2016; Extending Comment Period from 03/14/2016 to 04/15/2016.

Dated: March 1, 2016.
Dawn Roberts,
Management Analyst, NEPA Compliance Division, Office of Federal Activities.

[FR Doc. 2016-04833 Filed 3-3-16; 8:45 am]

BILLING CODE 6560-50-P